DEPARTMENT OF THE INTERIOR

Bureau of Land Management

[WO-220-1020-ML-01-24 1A]

OMB Approval Number 1004-0051; Information Collection Submitted to the Office of Management and Budget Under the Paperwork Reduction Act

The Bureau of Land Management (BLM) has submitted the proposed collection of information listed below to the Office of Management and Budget (OMB) for approval under provisions of the Paperwork Reduction Act (44 U.S.C. 3501 et seq.). On December 19, 2000, the BLM published a notice in the Federal Register (65 FR 79420) requesting comments on this proposed collection. The comment period ended on February 20, 2001. The BLM received one comment from the public in response to that notice. You may obtain copies of the proposed collection of information and related forms and explanatory material by contacting the BLM Information Collection Clearance Officer at the telephone number listed below.

The OMB is required to respond to this request within 60 days but may respond after 30 days. For maximum consideration your comments and suggestions on the requirement should be made within 30 days directly to the Office of Management and Budget, Interior Department Desk Office, (1004-0051), Office of Information and Regulatory Affairs, Washington, DC 20503. Please provide a copy of your comments to the Bureau Information Clearance Officer (WO-630), 1849 C St., NW., Mail Stop 401 LS, Washington, DC 20240.

Nature of Comments: We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated electronic, mechanical, or other forms of information technology.

Title: Actual Grazing Use Report (43 CFR 4130).

OMB Approval Number: 1004-0051.

Bureau Form Number: 4130-5.

Abstract: Respondents (permittees or lessees) supply BLM with information on the actual amount of livestock grazing use on the public lands within a specified time frame. BLM uses the information for billing purposes and program monitoring.

Frequency: Annual reporting as required.

Description of Respondents: Respondents are holders of grazing permits and leases on public lands that BLM administers.

Estimated Completion Time: 25 minutes.

Annual Responses: 15,000.

Filing Fee per Response: 0.

Annual Burden Hours: 6,250.

Bureau Clearance Officer: Michael Schwartz, (202) 452-5033.

Dated: March 1, 2001.
Michael H. Schwartz,
BLM Information Collection Clearance Officer.

[FR Doc. 01-10911 Filed 5-1-01; 8:45 am]

BILLING CODE 4310-84-M